DEPARTMENT OF AGRICULTURE

Forest Service

Proposed New Recreation Fee Sites

AGENCY: Forest Service, Agriculture (USDA).

ACTION: Notice.

SUMMARY: The George Washington and Jefferson National Forest is proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fees would be implemented no earlier than six months following the publication of this notice in the Federal Register.

ADDRESSES: George Washington and Jefferson National Forest, 5162 Valleypointe Parkway, Roanoke, VA 24019.

FOR FURTHER INFORMATION CONTACT: Jennifer Hummel, Public Affairs Specialist, by phone at (540) 520-7549 or by email at Jennifer.Hummel@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee sites in local newspapers and other local publications for public comment. Most of the new recreation fee revenues would be spent where they are collected to enhance the visitor experience at the new recreation fee sites.

An expanded amenity recreation fee of $14 per night would be charged for Hawk, Little Fort, Wolf Gap, and Oronoco Campgrounds. An expanded amenity recreation fee of $16 per night would be charged for Walnut Flats Campground. An expanded amenity recreation fee of $30 per night for groups up to 10 people and $50 per night for groups up to 25 people would be charged for Steel Bridge group campground. In addition, an expanded amenity recreation fee of $100 per night would be charged for rental of North Creek Cabin, and an expanded amenity recreation fee of $125 per night would be charged for rental of Glen Alton Cabin. A standard amenity recreation fee of $5 per day per vehicle would be charged at Elizabeth Furnace, Glen Alton Interpretive Site, Hanging Rock, Interior Whistlestop, Lake Keokee, and Roaring Run Furnace developed recreation sites. The George Washington and Jefferson National Forest Day Use Pass and the America the Beautiful—the National Parks and Federal Recreational Lands Pass would be honored at these standard amenity recreation fee sites.

Expenditures from recreation fee revenues collected at the new recreation fee sites would enhance recreation opportunities, improve customer service, and address maintenance needs. Once public involvement is complete, these new recreation fees will be reviewed by a Resource Advisory Committee prior to a final decision and implementation. Reservations for campgrounds and cabins could be made online at www.recreation.gov or by calling 877-444-6777. Reservations would cost $8.00 per reservation.

Dated: May 31, 2024.
Jacqueline Emanuel,
Associate Deputy Chief, National Forest System.

[FR Doc. 2024-12411 Filed 6-5-24; 8:45 am]

BILLING CODE 3411-15-P